DEPARTMENT OF TRANSPORTATION

National Highway Traffic Safety Administration

[Docket No. NHTSA-2011-0022]

Agency Information Collection Activity Under OMB Review; Reports, Forms and Record Keeping Requirements

AGENCY: National Highway Traffic Safety Administration, U.S. Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on March 22, 2011 [76 FR 16035]. No comments were received.

This document describes the collection of information for which NHTSA intends to seek OMB approval. The collection of information described is the “Side Impact Phase in Reporting Requirements—Part 597.” (OMB Control Number: 2127-0558)

DATES: Comments must be submitted on or before September 2, 2011.

FOR FURTHER INFORMATION CONTACT: Mr. Christopher J. Wiacek at U.S. Department of Transportation, NHTSA, 1200 New Jersey Avenue, SE., West Building Room W43-419, NVS-112, Washington, DC 20590. Mr. Christopher J. Wiacek's telephone number is (202) 366-4801 and fax number is (202) 366-7002.

SUPPLEMENTARY INFORMATION:

National Highway Traffic Safety Administration

Title: Side Impact Phase in Reporting Requirements—Part 597

OMB Control Number: 2127-0558

Type of Request: Extension of a currently approved collection.

Abstract: 49 U.S.C. 30111 authorizes the issuance of Federal motor vehicle safety standards (FMVSSs) and regulations. The agency, in prescribing a FMVSS or regulations, considers available relevant motor vehicle safety data, and consults with other agencies, as it deems appropriate. Further, the statute mandates that in issuing any FMVSS or regulation, the agency considers whether the standard or regulation is “reasonable, practicable and appropriate for the particular type of motor vehicle or item of motor vehicle equipment for which it is prescribed,” and whether such a standard will contribute to carrying out the purpose of the Act.

The Secretary is authorized to invoke such rules and regulations, as deemed necessary to carry out these requirements. Using this authority, on September 11, 2007 the agency published a final rule (73 FR 51908) upgrading the requirements of FMVSS No. 214, “Side impact protection.” The final rule contained a collection of information because of the proposed phase-in reporting requirements. The collection of information requires manufacturers of passenger cars, trucks, buses and MPVs with a GVWR of 4,536 kg (10,000 lb) or less, to annually submit a report, and maintain records related to the report, concerning the number of such vehicles that meet the vehicle-to-pole and MDB test requirements of FMVSS No. 214 during the three year phase-in of those requirements. In response to petitions for reconsideration the agency published a final rule (73 FR 32473) extending the phase-in of both the pole and MDB test requirements to four years. The purpose of the reporting and recordkeeping requirements is to assist the agency in determining whether a manufacturer of vehicles has complied with the requirements during the phase-in period.

Affected Public: Businesses.

Estimated Total Annual Burden: 1,260 hours

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC, on July 28, 2011.
Christopher J. Bonanti,
Associate Administrator for Rulemaking.

[FR Doc. 2011-19594 Filed 8-2-11; 8:45 am]

BILLING CODE 4910-59-P